DEPARTMENT OF THE INTERIOR

Bureau of Land Management

[UT-090-00-1430-BD; UTU-75494]

Emergency Road Closure

AGENCY: Bureau of Land Management, Interior.

ACTION: Order for temporary emergency closure of portions of the “Moon House” route and “Snow Flat Spring Cave” route which were identified as “ways” within the Fish Creek Canyon Wilderness Study Area (WSA) during the wilderness inventory of these Public Lands in San Juan County, Utah, to all motorized and mechanical vehicles.

SUMMARY: This action temporarily closes to motorized and mechanical vehicular use portions of the Moon House and Snow Flat Spring Cave routes inventoried as “ways” within the Fish Creek Canyon WSA on public land administered by the Bureau of Land Management in San Juan County, Utah. Specifically that portion of the Moon House route to be closed is the way that begins at the southern boundary of Section 35 in T. 38 S., R. 19 E., SLBM and continues to the edge of McCloyd Canyon. Specifically the portion of the Snow Flat Spring Cave route to be closed is the way in Sections 1 and 12 of T. 39 S., R. 19 E., SLBM, that begins at the end of the cherry stemmed road approximately one-half mile from the Snow Flat Road (Mormon Trail). The way will be closed from that point to the edge of McCloyd Canyon. The routes have seen no authorized vehicular traffic in more than eight years because they had been closed with signs posted stating “No Motor Vehicles.” San Juan County officials recently removed these signs without authorization. Publicity surrounding the County's removal of the signs is anticipated to increase vehicular traffic substantially. There is imminent threat of considerable adverse effects to wilderness characteristics and cultural resources. A substantial increase in vehicle use of these routes would seriously degrade wilderness suitability and may constrain Congress from designating those portions of the WSA affected by the routes into the National Wilderness Preservation System. Increased vehicular use would also cause considerable adverse effects upon cultural resources through surface disturbance and removal of artifacts. This temporary emergency closure will take effect immediately. Authority for this temporary emergency closure order is contained in 43 CFR 8341.2. This temporary closure will remain in effect until permanent designation procedures are followed as identified in 43 CFR 8342.

FOR FURTHER INFORMATION CONTACT: Kent E. Walter, Field Office Manager, 435 North Main (P.O. Box 7), Monticello, Utah 84535, (435) 587-1500.

Dated: January 12, 2000.
Kent E. Walter,
Field Office Manager.

[FR Doc. 00-1764 Filed 1-25-00; 8:45 am]

BILLING CODE 4310-DQ-P